DEPARTMENT OF VETERANS AFFAIRS

[OMB Control No. 2900-0703]

Proposed Information Collection (Dependents' Educational Assistance (DEA) Election Request) Activity: Comment Request

AGENCY: Veterans Benefits Administration, Department of Veterans Affairs.

ACTION: Notice.

SUMMARY: The Veterans Benefits Administration (VBA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to determine dependents of veterans beginning date to start their DEA benefits.

DATES: Written comments and recommendations on the proposed collection of information should be received on or before May 21, 2013.

ADDRESSES: Submit written comments on the collection of information through Federal Docket Management System (FDMS) at www.Regulations.gov or to Nancy J. Kessinger, Veterans Benefits Administration (20M35), Department of Veterans Affairs, 810 Vermont Avenue NW, Washington, DC 20420 or email nancy.kessinger@va.gov. Please refer to “OMB Control No. 2900-0703” in any correspondence. During the comment period, comments may be viewed online through the FDMS.

FOR FURTHER INFORMATION CONTACT: Nancy J. Kessinger at (202) 632-8924 or Fax (202) 632-8925.

SUPPLEMENTARY INFORMATION: Under the PRA of 1995 (Pub. L. 104-13; 44 U.S.C. 3501—3521), Federal agencies must obtain approval from OMB for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Dependents' Educational Assistance (DEA) Election Request, VA Form Letter 22-909.

OMB Control Number: 2900-0703.

Type of Review: Revision of a currently approved collection.

Abstract: VA must notify eligible dependents of veterans' receiving DEA benefits of their option to elect a beginning date to start such benefits. VA will use the data collected on VA Form Letter 22-909 to determine the appropriate amount of benefit payable to the claimant.

Affected Public: Individuals or households.

Estimated Annual Burden: 184 hours.

Estimated Average Burden per Respondent: 15 minutes.

Frequency of Response: One-time.

Estimated Annual Responses: 735.

Dated: March 19, 2013.
By direction of the Secretary.
William F. Russo,
Deputy Director, Office of Regulations Policy and Management, Office of General Counsel, Department of Veterans Affairs.

[FR Doc. 2013-06643 Filed 3-21-13; 8:45 am]

BILLING CODE 8320-01-P